NUCLEAR REGULATORY COMMISSION

[Docket Nos. 70-7001 and 70-7002]

Paducah Gaseous Diffusion Plant; Portsmouth Gaseous Diffusion Plant; United States Enrichment Corporation; Notice of Approval of Request for Exemption

AGENCY: Nuclear Regulatory Commission.

ACTION: Notice of approval of request for exemption.

SUMMARY: The Nuclear Regulatory Commission (Commission) is approving, upon publication of this notice, a request for an exemption from the requirement to submit written event follow-up reports within 30 days for the Paducah Gaseous Diffusion Plant and the Portsmouth Gaseous Diffusion Plant operated by the United States Enrichment Corporation (USEC). The exemption will allow up to 60 days for submitting written event follow-up reports, instead of the 30 days specified in 10 CFR 76.120(d)(2). The NRC has prepared an environmental assessment with a finding of no significant impact on the request.

FOR FURTHER INFORMATION CONTACT: Dan E. Martin, Project Manager, Fuel Cycle Facilities Branch, Division of Fuel Cycle Safety and Safeguards, Office of Nuclear Material Safety and Safeguards, U.S. Nuclear Regulatory Commission, Washington, DC 20555, telephone: (301) 415-7254, e-mail dem1@nrc.gov.

SUPPLEMENTARY INFORMATION: The Commission is approving the issuance of an exemption from the requirement to submit written event follow-up reports in 30 days, pursuant to 10 CFR part 76, for the Paducah Gaseous Diffusion Plant (PGDP) and the Portsmouth Gaseous Diffusion Plant (PORTS), both operated by USEC. Both facilities are authorized to use Special Nuclear Material (SNM) in the enrichment of natural uranium to prepare low-enriched uranium to be used by others in the fabrication of nuclear fuel pellets and fuel assemblies, although enrichment operations have ceased at PORTS. The PGDP facility is located near Paducah, Kentucky, and the PORTS facility is located near Piketon, Ohio.

Pursuant to 10 CFR part 76.120(a), (b), and (c), certain events are required to be reported to the NRC within 1, 4, or 24 hours, respectively. For example, an inadvertent criticality event must be reported to NRC within 1 hour. In such cases, Section 76.120(d)(2) requires that a written event follow-up report be submitted within 30 days of the initial report. Written event follow-up reports must include: (1) A description of the event, including the probable cause and the manufacturer and model number of any equipment that failed; (2) the exact location of the event; (3) a description of the isotopes, quantities, and chemical and physical form of the material involved; (4) the date and time of the event; (5) the causes, including the direct cause, the contributing cause, and the root cause; (6) corrective actions taken or planned and the results of any evaluations or assessments; (7) the extent of exposure of individuals to radiation or to radioactive materials; and (8) lessons learned from the event.

Because of the comprehensive nature of event follow-up reports, the initial 30-day report is often incomplete because event analysis and root cause determinations are not completed within 30 days. In these cases, a supplemental report must be submitted when information is complete. In recognition of this, the NRC revised 10 CFR part 50, for nuclear power reactors, to allow 60 days for submitting event follow-up reports (Federal Register, October 25, 2000, Volume 65, No. 207, pp. 63769-63789). Considerations mentioned in connection with revising Part 50 included that the increased time would allow for completion of required engineering evaluations after event discovery, provide for more complete and accurate event reports, and result in fewer event report revisions and supplemental reports. Similar considerations apply to the Paducah and Portsmouth GDPs and the NRC staff has determined that the exemption should be granted. The NRC staff has prepared an environmental assessment of the proposed action and made a finding of no significant impact.

Environmental Assessment

Identification of the Proposed Action

The proposed action would allow written event follow-up reports required pursuant to 10 CFR 76.120(d)(2) to be submitted within 60 days instead of the 30 days specified in the regulation, for the Paducah and Portsmouth GDPs operated by USEC. The proposed action is in accordance with USEC's request for exemption dated September 5, 2001.

Need for the Proposed Action

The proposed action is needed to reduce the number of revised and supplemental written event reports made necessary because complete information is not available within the 30 days allowed by the regulation. USEC has provided data for the Paducah GDP indicating that, since NRC began regulating the facility in March 1997, 21 of a total of 84 written event follow-up reports would have been unnecessary if the requirement for submittal of written event follow-up reports had been 60 days instead of the current 30-day requirement. USEC stated that these 21 reports were submitted only to meet the 30-day requirement, and, in each case, the root cause analysis was ongoing at the time the 30-day report was submitted and a subsequent report was required when the root cause analysis was completed. Similar data for the Portsmouth facility has not been requested or provided since it would not be useful in view of the recent termination of virtually all NRC-regulated operations at the Portsmouth facility. However, the same general considerations apply for Portsmouth, but at a reduced scale since the number of reportable events is expected to be decreased but not eliminated altogether.

Environmental Impacts of the Proposed Action

The proposed action would not materially affect the responsiveness of USEC or the NRC to events that do occur and are reported. Changing the time limit from 30 days to 60 days for events reported under Part 76 does not imply that USEC should take longer to develop and implement corrective actions, which should continue to be taken on a time scale commensurate with the safety significance of the issue. It has no impact on initial notifications to the NRC as the change only applies to written event follow-up reports. Also, the NRC will continue to have resident inspectors at the Paducah facility to provide monitoring and evaluation of USEC's responses to events as they are implemented. One reason the NRC scrutinizes written event reports is to evaluate the potential for generic safety concerns that might exist at other, similar facilities. Since the Paducah facility has no comparable counterpart other than the Portsmouth facility, which has terminated all enrichment and most other operations, the potential for identifying generic safety concerns is severely limited. On balance, the NRC believes the reduction in burden on USEC and NRC achieved by reducing the number of revised and supplemental event reports will be the primary impact of granting the requested exemption.

The proposed exemption should have no impact on the effectiveness of USEC's response to reportable events. The proposed action should not increase the probability or consequences of accidents as there is no change in the time period for taking corrective action. No changes are being made in the amounts or types of any effluents that could be released offsite, and there is no increase in individual or cumulative radiation exposure. Accordingly, the Commission concludes that there are no significant radiological impacts associated with the proposed action.

With regard to potential nonradiological impacts, the proposed action does not affect nonradiological plant effluents and has no other environmental impact. Accordingly, the Commission concludes that there are no significant nonradiological impacts associated with the proposed action.

Alternatives to the Proposed Action

As an alternative to the proposed action, the staff considered denial of the proposed action. Denial of the proposed action would result in no change in environmental impacts and would result in hardship to USEC. The environmental impacts of the proposed action and the alternative action are similar.

Alternative Use of Resources

The proposed action does not involve the use of any resources beyond those already necessary to prepare and submit event follow-up reports, and would likely reduce the expenditure of such resources by reducing the number of revised and supplemental event reports required to be submitted.

Agencies and Persons Consulted

In accordance with its stated policy, the NRC staff consulted with: (1) State of Illinois official Thomas Ortciger, Director, Illinois Department of Nuclear Safety; (2) State of Kentucky official Janice H. Jasper, Radiation Health and Toxic Agents Branch, Cabinet for Health Services; (3) State of Ohio official, Carol O'Claire, Supervisor, Radiological Branch, Ohio Emergency Management Agency; and (4) U.S. Department of Energy official Randall M. DeVault, Group Leader, Transition and Technology Group, Office of Nuclear Fuel Security and Uranium Technology, regarding the environmental impact of the proposed action. No objections were received.

Consultations with the U.S. Fish and Wildlife Service and the State Historic Preservation Officer were not performed because of the lack of any conceivable impact to fish and wildlife or historic assets.

Finding of No Significant Impact

Based on the environmental assessment, the Commission concludes that the proposed action will not have a significant effect on the quality of the human environment. Accordingly, the Commission has determined not to prepare an environmental impact statement for the proposed action.

List of Preparers

This document was prepared by Dan E. Martin, Project Manager, Fuel Cycle Facilities Branch, Division of Fuel Cycle Safety and Safeguards, Office of Nuclear Material Safety and Safeguards. Mr. Martin is the Project Manager for the Paducah Gaseous Diffusion Plant.

For further details with respect to the proposed action, see the USEC letter request dated September 5, 2001, and USEC's response to a request for additional information, dated October 2, 2002, available for public inspection at the Commission's Public Document Room at One White Flint North, 11555 Rockville Pike (first floor), Rockville, MD, and accessible electronically through the ADAMS Public Electronic Reading Room link at the NRC Web site (http://www.nrc.gov/reading-rm/adams.html).

Dated at Rockville, Maryland this 24th day of October, 2002.
For the Nuclear Regulatory Commission.
Daniel M. Gillen,
Chief, Fuel Cycle Facilities Branch, Division of Fuel Cycle Safety and Safeguards, Office of Nuclear Material Safety and Safeguards.

[FR Doc. 02-28669 Filed 11-8-02; 8:45 am]

BILLING CODE 7590-01-P